DEPARTMENT OF TRANSPORTATION

National Highway Traffic Safety Administration

Reports, Forms and Record Keeping Requirements; Agency Information Collection Activity Under OMB Review

AGENCY: National Highway Traffic Safety Administration, U.S. Department of Transportation.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on April 9, 2007 (72 FR 17598). No comments were received.

This document describes two collections of information for which NHTSA intends to seek OMB approval. The first ICR described is “Consolidated Child Restraint Registration, Labeling and Defect Notification.” The second ICR is “Consolidated Labeling Requirements for Vehicles (Except the VIN).”

DATES: Comments must be submitted on or before December 6, 2007.

FOR FURTHER INFORMATION CONTACT: Mr. Maurice Hicks at the National Highway Traffic Safety Administration, Office of Rulemaking (NVS-113), 1200 New Jersey Ave., SE., Washington, DC 20590. Mr. Hicks' telephone number is (202) 366-6345.

SUPPLEMENTARY INFORMATION:

National Highway Traffic Safety Administration

(1) Title: “Consolidated Child Restraint System Registration, Labeling and Defect Notifications.”

OMB Control Number: 2127-0576.

Type of Request: Revised Collection.

Abstract: This action consolidates two existing collections of information. In the previous collections of information: (1) A collection was established to require manufacturers to provide owner registration cards and to label each child restraint system (CRS) with a message informing users of the importance of registering the device with the manufacturer, and (2) another collection was issued to allow NHTSA to implement a registration program to send CRS owners a substitute registration form if owners had lost the registration card (OMB control numbers 2127-0511, “49 CFR 571.213, Child Restraint Systems,” and 2127-0576, “Child Safety Seat Registration”). Furthermore, in the second collection, it was also required that if either NHTSA or a manufacturer determines that a CRS contains a defect that relates to motor vehicle safety or fails to comply with an applicable Federal Motor Vehicle Safety Standard, pursuant to Chapter 301 of title 49 of the United States, the manufacturer must notify owners and purchasers of the defect or noncompliance and must provide a remedy without charge. The proposed revised collection will consolidate these provisions but will retain the control number of the second collection.

Child restraint manufacturers are required to provide an owner's registration card for purchasers of child safety seats in accordance with title 49 of the Code of Federal Regulation (CFR), part 571—section 213, “Child restraint systems.” The registration card is perforated into two-parts (see Figures 1 and 2). The top part contains a message and suitable instructions to be retained by the purchaser. The bottom part is to be returned to the manufacturer by the purchaser. The bottom part includes prepaid return postage, the pre-printed name/address of the manufacturer, the pre-printed model and date of manufacture, and spaces for the purchaser to fill in his/her name and address. Optionally, child restraint manufacturers are permitted to add to the registration form: (a) Specified statements informing CRS owners that they may register online; (b) the Internet address for registering with the company; (c) revisions to statements reflecting use of the Internet to register; and (d) a space for the consumer's e-mail address. For those CRS owners with access to the Internet, online registration may be a preferred method of registering a CRS.

In addition to the registration card supplied by the manufacturer, NHTSA has implemented a CRS registration system to assist those individuals who have either lost the registration card that came with the CRS or purchased a previously owned CRS. Upon the owner's request, NHTSA provides a substitute registration form that can be obtained either by mail or from the Internet ¹ (see Figure 3). When the completed registration is returned to the agency, it is then submitted to the CRS manufacturers. In the absence of a substitute registration system, many owners of child passenger safety seats, especially any second-hand owners, might not be notified of safety defects and noncompliances, and would not have the defects and noncompliances remedied.

¹ http://www.nhtsa.dot.gov/staticfiles/DOT/NHTSA/Vehicle%20Safety/Articles/Associated%20Files/csregfrm.pdf.

Child seat owner registration information is retained in the event that owners need to be contacted for defect recalls or replacement campaigns. Chapter 301 of title 49 of the United States Code specifies that if either NHTSA or a manufacturer determines that motor vehicles or items of motor vehicle equipment contain a defect that relates to motor vehicle safety or fail to comply with an applicable Federal motor vehicle safety standard, the manufacturer must notify owners and purchasers of the defect or noncompliance and must provide a remedy without charge. In title 49 of the CFR, part 577, defect and noncompliance notification for equipment items, including child restraint systems, must be sent by first class mail to the most recent purchaser known to the manufacturer.

Child restraint manufacturers are also required to provide a printed instructions brochure with step-by-step information on how the restraint is to be used. Without proper use, the effectiveness of these systems is greatly diminished. Each child restraint system must also have a permanent label. A permanently attached label gives “quicklook” information on whether the restraint meets the safety requirements, recommended installation and use, and warnings against misuse.

Affected Public: Business, individuals and households.

Estimated Total Annual Burden: 265,500 hours.

(2) Title: Consolidated Labeling Requirements for Motor Vehicles (Except the VIN).

OMB Control Number: 2127-0512.

Type of Request: Revised Collection.

Abstract: Because of the similarities in the collections of information, NHTSA seeks to combine the provisions of the existing collection for glazing materials into a collection for labeling information for five other Federal motor vehicle safety standards (OMB control numbers 2127-0038, “49 CFR 571.205, Glazing Materials,” and 2127-0512, “Consolidated Labeling Requirements for Motor Vehicles” (except the VIN)). NHTSA seeks to consolidate the two collections because the provisions for glazing materials in both collections are interrelated. The two collections address a process that vehicle manufacturers follow in first gaining a unique identification number from NHTSA and then labeling each piece of vehicle glazing with that number to verify compliance with Federal standards.

In order to ensure that motor vehicle safety is maintained and that manufacturers are complying with the FMVSS and regulations, NHTSA requires a number of specific labeling requirements. FMVSS No. 105, “Hydraulic and electric brake systems” and FMVSS No. 135, “Light vehicle brake systems,” require that each vehicle shall have a brake fluid warning statement in letters at least one-eighth of a inch high on the master cylinder reservoirs and located so as to be visible by direct view. FMVSS No. 205, “Glazing materials,” requires that manufacturers mark their automotive glazing with certain label information. In addition, for certain specialty glazing items, manufacturers are required to affix a removable label to each item. FMVSS No. 209, “Seat belt assemblies,” requires safety belts to be labeled with the year of manufacture, the model, and the name or trademark of the manufacturer. Additionally, replacement safety belts that are for use only in specifically stated motor vehicles must have labels or accompanying instruction sheets to specify the applicable vehicle models and seating positions. All other replacement belts are required to be accompanied by an installation instruction sheet. Part 567, “Certification,” requires each manufacturer or distributor of motor vehicles to furnish to the dealer, or distributor of the vehicle, a certification that the vehicle meets all applicable FMVSS. This certification is required to be in the form of a label permanently affixed to the vehicle.

This notice seeks to approve the registration and labeling requirements of these FMVSS and regulations. Also, this notice seeks to correct errors that were made in the previous notice on the estimated total annual burden hours and costs. In the previous notice, NHTSA estimated that all manufacturers will need a total of 73,071 annual burden hours to comply with the requirements of the combined collections, at a total annual cost of $1,096,065. These estimates ignore the hours needed for glazing manufacturers to obtain an approved identification number and develop stencils for marking each piece of vehicle glazing. Additionally, the total annual cost was derived at an hourly rate of $15 instead of $20, which is more appropriate given the required duties specified for the collections. To correct the error, an additional 1,066 burden hours are added which increases the estimated total annual burden to 74,137 hours and the total annual cost to $1,482,740 (calculated at a rate of $20 per hour).

Affected Public: Business.

Estimated Total Annual Burden: 74,137 hours.

ADDRESSES: Send comments, within 30 days, to the Office of Information and Regulatory Affairs, Office of Management and Budget, 725-17th Street, NW., Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology. A Comment to OMB is most effective if OMB receives it within 30 days of publication.

Issued in Washington, DC, on: October 31, 2007.
Stephen R. Kratzke,
Associate Administrator for Rulemaking.

BILLING CODE 4910-59-P

[FR Doc. E7-21758 Filed 11-5-07; 8:45 am]

BILLING CODE 4910-59-P